DEPARTMENT OF AGRICULTURE

Biodiesel Fuel Education Program: Request for Applications and Request for Input

AGENCY: Office of the Chief Economist, Office of Energy Policy and New Uses, USDA.

ACTION: Notice of request for applications.

SUMMARY: The Office of the Chief Economist, Office of Energy Policy and New Uses (OEPNU) requests applications for the Biodiesel Fuel Education Program for fiscal year (FY) 2003 to educate governmental and private entities that operate vehicle fleets, other interested entities (as determined by the Secretary), and the public about the benefits of biodiesel fuel use.

DATES: Applications must be received by close of business (COB) on August 14, 2003 (5 p.m. Eastern Daylight Time). Applications received after this deadline will not be considered for funding.

ADDRESSES: The address for hand-delivered applications or applications submitted using an express mail or overnight courier service is: Biodiesel Fuel Education Program; c/o Proposal Services Unit; Cooperative State Research, Education, and Extension Service; U.S. Department of Agriculture; Room 1420, Waterfront Centre; 800 9th Street, SW.; Washington, DC 20024; Telephone: (202) 401-5048.

Applications sent via the U.S. Postal Service must be sent to the following address: Biodiesel Fuel Education Program; c/o Proposal Services Unit; Cooperative State Research, Education, and Extension Service; U.S. Department of Agriculture; STOP 2245; 1400 Independence Avenue, SW.; Washington, DC 20250-2245.

FOR FURTHER INFORMATION CONTACT: Applicants and other interested parties are encouraged to contact Carmela A. Bailey; National Program Leader, Plant and Animal Systems Unit; Cooperative State Research, Education, and Extension Service; U.S. Department of Agriculture; STOP 2220; 1400 Independence Avenue, SW., Washington, DC 20250-2220; Telephone: (202) 401-6443; Fax: (202) 401-5179; E-mail: cbailey@csrees.usda.gov or James Duffield; Economist; Office of Energy Policy and New Uses; U.S. Department of Agriculture; Telephone: (202) 401-0523; E-mail: jduffield@oce.usda.gov.

SUPPLEMENTARY INFORMATION:

Catalog of Federal Domestic Assistance

This program is listed in the Catalog of Federal Domestic Assistance under 10.306.

Table of Contents

Part I. General

A. Legislative Authority and Background

B. Purpose and Fund Availability

C. Eligibility

D. Indirect Costs

E. Matching Requirements

F. Types of Applications

Part II. Program Description

A. Project Types

B. Program Description

Part III. Preparation of an Application

A. Program Application Materials

B. Content of Applications

C. Submission of Applications

D. Acknowledgment of Applications

Part IV. Review Process

A. General

B. Evaluation Criteria

C. Conflicts of Interest and Confidentiality

Part V. Award Administration

A. General

B. Organizational Management Information

C. Award Document and Notice of Award

Part VI. Additional Information

A. Access to Review Information

B. Use of Funds; Changes

C. Expected Program Outputs and Reporting Requirements

D. Applicable Federal Statutes and Regulations

E. Confidential Aspects of Applications and Awards

F. Regulatory Information

G. Definitions

Part I. General

A. Legislative Authority and Background

Sec. 9004 of the Farm Security and Rural Investment Act of 2002 (FSRIA), 7 U.S.C. 8104, established the Biodiesel Fuel Education Program and requires that the Secretary make competitive grants to eligible entities to educate governmental and private entities that operate vehicle fleets, other interested entities (as determined by the Secretary), and the public about the benefits of biodiesel fuel use. Eligibility is limited to nonprofit organizations and institutions of higher education (as defined in sec. 101 of the Higher Education Act of 1965 (20 U.S.C. 1001)) that have demonstrated both knowledge of biodiesel fuel production, use, or distribution and the ability to conduct educational and technical support programs.

The Secretary delegated this authority to the Chief Economist, who in turn delegated this authority to the Director of OEPNU. OEPNU has entered into an Economy Act agreement with CSREES for CSREES assistance in administering this competitive grant program.

B. Purpose and Fund Availability

The Biodiesel Fuel Education Program seeks to familiarise public and private vehicle fleet operators, other interested entities, and the public with the benefits of biodiesel, a relatively new fuel option in the United States. It will also address concerns previously identified by fleet operators and other potential users of this alternative fuel, including the need to balance the positive environmental, social and human health impacts of biodiesel utilization with the increased per gallon cost to the user. It is the Program's goal to stimulate biodiesel demand and encourage the further development of a biodiesel industry in the United States. Like other programs in the Energy Title (Title IX) of the FSRIA, the Biodiesel Fuel Education Program was motivated by a desire to increase our Nation's renewable energy sources and help reduce our dependence on petroleum imports.

Applications should demonstrate the applicant's ability to provide an education/outreach program with a national scope and a consistent message. There is no commitment by USDA to fund any particular application or to make a specific number of awards. Approximately $920,000 is available to fund applications in FY 2003.

C. Eligibility

Eligibility is limited to nonprofit organizations and institutions of higher education that have demonstrated both knowledge of biodiesel fuel production, use, or distribution and the ability to conduct educational and technical support programs.

Award recipients may subcontract to organizations not eligible to apply provided such organizations are necessary for the conduct of the project.

D. Indirect Costs

For the Biodiesel Fuel Education Program, applicants should use the current indirect cost rate negotiated with the cognizant Federal negotiating agency. Indirect costs may not exceed the negotiated rate. If no indirect cost rate has been negotiated, a reasonable dollar amount for indirect costs may be requested, which will be subject to approval by USDA. In the latter case, if a proposal is recommended for funding, an indirect cost rate proposal must be submitted prior to award to support the amount of indirect costs requested. CSREES will request an indirect cost rate proposal and provide instructions, as necessary.

A proposer may elect not to charge indirect costs and, instead, charge only direct costs to grant funds. Grantees electing this alternative will not be allowed to charge, as direct costs, indirect costs that otherwise would be in the grantee's indirect cost pool under the applicable Office of Management and Budget cost principles. Grantees who request no indirect costs will not be permitted to revise their budgets at a later date to charge indirect costs to grant funds.

E. Matching Requirements

There are no matching funds requirements for the Biodiesel Fuel Education Program and matching resources will not be factored into the review process as evaluation criteria.

F. Types of Applications

The Biodiesel Fuel Education Program is a new program in FY 2003. All applications will be reviewed competitively using the selection process and evaluation criteria described in Part IV—Review Process.

Part II. Program Description

A. Project Types

OEPNU anticipates that $920,000 will be available to fund Biodiesel Fuel Education Program grants in each of FYs 2003 through 2007. In FY 2003, OEPNU plans to award one or two continuation grants for an initial project period of one year. A continuation grant is a grant instrument by which the Department agrees to support a specified level of effort for a predetermined project period with a statement of intention to provide additional support at a future date, provided that performance has been satisfactory, appropriations are available for this purpose, and continued support would be in the best interest of the Federal government and the public. If these three elements are met, OEPNU plans to provide additional support to the funded project(s) in each of FYs 2004 through 2007.

Project budgets may not exceed $920,000 per year. Project periods may range between three (3) and five (5) years.

B. Program Description

Biodiesel can be made from various agricultural feedstocks, including oil crops like soybeans, canola, and sunflowers, and animal fats, such as lard and tallow, and potentially from wood and wood wastes. Recycled vegetable oils and animal fats, such as yellow grease, are also used to make biodiesel. Biodiesel can be used in most diesel engines with only minor modifications. It can be used as a neat fuel (100 percent) or blended with petroleum diesel in various proportions. The most common blend is B20, a blend of 20 percent biodiesel and 80 percent petroleum diesel. Biodiesel is also used as a fuel additive by blending it with diesel fuel at a low level (5 percent or less), which increases fuel lubricity.

Currently there are a small number of biodiesel producers in the United States. They make biodiesel primarily from soybean oil or yellow grease and usually sell it as B20. Motor vehicle fleets such as school buses, urban buses, and government motor pools are the primary users of B20. The price of B20 varies significantly, depending on differences in feedstock costs and transportation cost, i.e., distance from supplier to the customer. Blending biodiesel with petroleum diesel increases the cost of diesel fuel; however, some fleet operators are encouraged to pay a premium price for B20 by Federal and State program incentives, such as the Energy Policy Act of 1992 (EPAct) (Pub. L. 102-486), that promote alternative fuel use in the United States. The current demand for biodiesel is small; however, it has been increasing in the past few years and an infrastructure for marketing and distributing biodiesel is beginning to emerge.

Biodiesel has many environmental, health and economic benefits. It is biodegradable and reduces air toxics and cancer causing compounds and can be considered to be an environmentally preferable fuel. Burning biodiesel and biodiesel blends reduces most forms of air pollution, including sulfur dioxide (SOX), carbon monoxide, and particulate matter, however, it increases emissions of nitrogen oxides (NOX). Because biodiesel is made from renewable sources, significant reductions in carbon dioxide can be realized when the life-cycle (planting, growing, harvesting, and processing) of producing oil crops (e.g., soybeans) is used in comparing B20 to petroleum diesel. Atmospheric carbon dioxide increases are implicated in greenhouse warming, which has become a major concern for world leaders. Renewable fuels like biodiesel also have favorable energy balances compared to non-renewable petroleum fuels. Reducing the demand for petroleum diesel can reduce foreign imports and favorably influence the USA balance of trade. Increasing biodiesel production will increase the demand for farm commodities, which in turn will raise farm prices and net farm income, and lower government program payments. The development of a biodiesel industry would increase employment and stimulate economic growth in rural areas.

The goals of the Biodiesel Fuel Education Program are to stimulate biodiesel consumption and to stimulate the development of a biodiesel infrastructure. Successful projects will develop practical indicators or milestones to measure their progress towards achieving the following objectives:

1. Enhance current efforts to collect and disseminate biodiesel information;

2. Coordinate with other biodiesel educational or promotional programs, and with Federal, State and local programs aimed at encouraging biodiesel use, including the EPAct program;

3. Create a nationwide networking system that delivers biodiesel information to targeted audiences, including users, distributors and other infrastructure-related personnel;

4. Identify and document the benefits of biodiesel (e.g., lifecycle costing); and

5.Gather data pertaining to information gaps and develop strategies to address the gaps.

Part III. Preparation of an Application

A. Program Application Materials

Program application materials are available at the CSREES Funding Opportunities Web site (http://www.reeusda.gov/1700/funding/ourfund.htm). If you do not have access to the web page or have trouble downloading material and you would like a hard copy, you may contact the Proposal Services Unit, Competitive Programs, USDA/CSREES at (202) 401-5048. When calling the Proposal Services Unit, please indicate that you are requesting the RFA and associated application forms for the Biodiesel Fuel Education Program. These materials also may be requested via Internet by sending a message with your name, mailing address (not E-mail) and phone number to psb@reeusda.gov. State that you want a copy of the RFA and the associated application forms for the Biodiesel Fuel Education Program.

B. Content of Applications

Applications should be prepared following the guidelines and the instructions below. Each application must contain the following elements in the order indicated:

1. General

Use the following guidelines to prepare an application. Proper preparation of applications will assist reviewers in evaluating the merits of each application in a systematic, consistent fashion:

(a) Prepare the application on only one side of the page using standard size (8½″ x 11″) white paper, one-inch margins, typed or word processed using no type smaller than 12 point font, and single spaced. Use an easily readable font face (e.g., Geneva, Helvetica, Times Roman).

(b) Number each page of the application sequentially, starting with the Project Description, including the budget pages, required forms, and any appendices.

(c) Staple the application in the upper left-hand corner. Do not bind. An original and ten (10) copies (eleven (11) total) must be submitted in one package.

(d) Include original illustrations (photographs, color prints, etc.) in all copies of the application to prevent loss of meaning through poor quality reproduction.

(e) The contents of the application should be assembled in the following order:

(1)Proposal Cover Page (Form CSREES-2002).

(2) Table of Contents.

(3) Project Summary (Form CSREES-2003).

(4) Project Description.

(5) References.

(6) Appendices to Project Description.

(7) Key Personnel.

(8) Collaborative Arrangements (including Letters of Support).

(9) Conflict-of-Interest List (Form CSREES-2007).

(10) Budget (Form CSREES-2004).

(11) Budget Narrative.

(12) Current and Pending Support (Form CSREES-2005).

(13) Compliance with the National Environmental Policy Act (NEPA) (Form CSREES-2006).

(14) Page B, Proposal Cover Page (Form CSREES-2002), Personal Data on Project Director.

2. Proposal Cover Page (Form CSREES-2002)

Page A

Each copy of each grant application must contain a “Proposal Cover Page”, Form CSREES-2002. One copy of the application, preferably the original, must contain the pen-and-ink signature(s) of the proposing PDs and the authorized organizational representative (AOR), the individual who possesses the necessary authority to commit the organization's time and other relevant resources to the project. If there are more than three co-PDs for an application, please list additional co-PDs on a separate sheet of paper (with appropriate information and signatures) and attach to the Proposal Cover Page (Form CSREES-2002). Any proposed PD or co-PD whose signature does not appear on Form CSREES-2002 or attached additional sheets will not be listed on any resulting award. Complete both signature blocks located at the bottom of the “Proposal Cover Page” form. Please note that Form CSREES-2002 is comprised of two parts—Page A, which is the “Proposal Cover Page”, and Page B, which is the “Personal Data on Project Director.”

Form CSREES-2002 serves as a source document for the CSREES grant database; it is therefore important that it be accurately completed in its entirety, especially the E-mail addresses requested in Blocks 4.c. and 18.c. However, the following items are highlighted as having a high potential for errors or misinterpretations:

(a) Type of Performing Organization (Block 6.a. and 6.b.). For Block 6.a., a check should be placed in the appropriate box to identify the type of organization that is the legal recipient named in Block 1. Only one box should be checked. For Block 6.b., please check as many boxes that apply to the affiliation of the PD listed in Block 16.

(b) Title of Proposed Project (Block 7.). The title of the project must be brief (140-character maximum, including spaces), yet represent the major thrust of the effort being proposed. Project titles are read by a variety of nonscientific people; therefore, highly technical words or phraseology should be avoided where possible. In addition, introductory phrases such as “investigation of,” “research on,” “education for,” or “outreach that” should not be used.

(c) Program to Which You Are Applying (Block 8). Enter “Biodiesel Fuel Education Program”.

(d) Type of Request (Block 14.). Check the block for “New”.

(e) Project Director (PD) (Blocks 16.-19.). Blocks 16.-18. are used to identify the PD and Block 19. to identify co-PDs. If needed, additional co-PDs may be listed on a separate sheet of paper and attached to Form CSREES-2002, the Proposal Cover Page, with the applicable co-PD information and signatures. Listing multiple co-PDs, beyond those required for genuine collaboration, is discouraged.

(f) Other Possible Sponsors (Block 21.). List the names or acronyms of all other public or private sponsors including other agencies within USDA to which your application has been or might be sent. In the event you decide to send your application to another organization or agency at a later date, you must inform the identified CSREES program contact as soon as practicable. Submitting your application to other potential sponsors will not prejudice its review by OEPNU.

Page B

Page B should be submitted only with the original signature copy of the application and should be placed as the last page of the original copy of the application. This page contains personal data on the PD(s). CSREES requests this information in order to monitor the operation of its review and awards processes. This page will not be duplicated or used during the review process. Please note that failure to submit this information will in no way affect consideration of your application.

3. Table of Contents

For consistency and ease in locating information, each application must contain a detailed Table of Contents immediately following the Proposal Cover Page. The Table of Contents should contain page numbers for each component of the application. Page numbering should begin with the first page of the Project Description.

4. Project Summary (Form CSREES-2003)

The application must contain a “Project Summary,” Form CSREES-2003. The summary should be approximately 250 words, contained within the box, placed immediately after the Table of Contents, and not numbered. The names and affiliated organizations of all PDs and co-PDs should be listed on this form, in addition to the title of the project. The summary should be a self-contained, specific description of the activity to be undertaken and should focus on: overall project goal(s) and supporting objectives; plans to accomplish project goal(s); and relevance of the project to the goals of the Biodiesel Fuel Education Program. The importance of a concise, informative Project Summary cannot be overemphasized. If there are more than three co-PDs for an application, please list additional co-PDs on a separate sheet of paper (with appropriate information) and attach to the Project Summary (Form CSREES-2003).

5. Project Description

Please Note: The Project Description shall not exceed fifteen (15) pages of written text. This maximum has been established to ensure fair and equitable competition. The Project Description must address each of the evaluation criteria identified in Part IV, B., including the following:

(a) Demonstrate ability to conduct educational and technical support programs;

(b) Describe current efforts to collect and disseminate biodiesel information. Explain how the proposed project will enhance these efforts;

(c) Describe plans to coordinate with other biodiesel educational or promotional programs and with Federal, State and local programs aimed at encouraging biodiesel use, including the EPAct program;

(d) Describe plans to create a nationwide networking system that delivers biodiesel information to targeted audiences. Specifically address strategies to reach: (1) Government and private fleet operators; (2) the trucking industry; (3) the marine industry; (4) the agricultural sector; (5) fuel distributors; (6) fuel refiners; (7) the railroad industry; (8) non-fuel users (e.g., furnace manufacturers); (9) engine and engine part manufacturers; and (10) the public;

(e) Describe how the project will identify and document the benefits of biodiesel;

(f) Describe plans to identify information gaps and gather data pertaining to the gaps. Explain how this data will be used to develop strategies that reduce or eliminate the information gaps;

(g) Describe how the project will identify and gather data pertaining to market barriers. Include plans to address questions and concerns related to fuel quality, Nox emissions, cost, lifecycle costing, storage, and engine warrantee coverage;

(h) Identify all practical indicators or milestones that will be used to measure progress towards achieving program objectives (see Part II, B.). Indicators may include, but are not limited to: (1) a targeted audience's level of awareness of biodiesel benefits; (2) Government and/or State motor fleet consumption of biodiesel; (3) the availability of biodiesel information; and (4) the level of public acceptance of biodiesel as a credible fuel and fuel additive;

(i) Describe strategies to involve stakeholders in the planning and accomplishment of program objectives (see Part II, B.); and

(j) Document that necessary institutional resources (administrative, facilities, equipment, and/or materials), and other appropriate resources will be made available to the project. Demonstrate how the institutional resources to be made available to the project, when combined with the support requested from USDA, will be adequate to carry out the activities of the project.

6. References

All references to works cited should be complete, including titles and all co-authors, and should conform to an acceptable journal format. References are not considered in the page-limitation for the Project Description.

7. Appendices to Project Description

Appendices to the Project Description are allowed if they are directly germane to the proposed project. The addition of appendices should not be used to circumvent the page limitation.

8. Key Personnel

The following should be included, as applicable:

(a) The roles and responsibilities of each PD and/or collaborator should be clearly described; and (b) Vitae of the PD and each co-PD, senior associate, and other professional personnel. This section should include vitae of all key persons who are expected to work on the project, whether or not OEPNU funds are sought for their support. The vitae should be limited to two (2) pages each in length, excluding publication listings. The vitae should include a presentation of academic and research credentials, as applicable, e.g., earned degrees, teaching experience, employment history, professional activities, honors and awards, and grants received. A chronological list of all publications in refereed journals during the past four (4) years, including those in press, must be provided for each project member for whom a curriculum vitae is provided. Also list only those non-refereed technical publications that have relevance to the proposed project. All authors should be listed in the same order as they appear on each paper cited, along with the title and complete reference as these usually appear in journals.

9. Collaborative Arrangements

If it will be necessary to enter into formal consulting or collaborative arrangements with others, such arrangements should be fully explained and justified. If the consultant(s) or collaborator(s) are known at the time of application, vitae or resume should be provided. In addition, evidence (e.g., letter of support) should be provided that the collaborators involved have agreed to render these services. The applicant also will be required to provide additional information on consultants and collaborators in the budget portion of the application. See instructions in the application forms for completing Form CSREES-2004, Budget.

10. Conflict-of-Interest List (Form CSREES-2007)

A “Conflict-of-Interest List,” Form CSREES-2007, must be provided for all individuals who have submitted a vitae in response to item 8.(b) of this part. Each Form CSREES-2007 should list alphabetically, by the last names, the full names of the individuals in the following categories: (a) All co-authors on publications within the past four years, including pending publications and submissions; (b) all collaborators on projects within the past four years, including current and planned collaborations; (c) all thesis or postdoctoral advisees/advisors within the past four years; and (d) all persons in your field with whom you have had a consulting or financial arrangement within the past four years, who stand to gain by seeing the project funded. This form is necessary to assist program staff in excluding from application review those individuals who have conflicts of interest with the personnel in the grant application. The program contact must be informed of any additional conflicts of interest that arise after the application is submitted.

11. Budget

(a) Budget Form (Form CSREES-2004)

Prepare the Budget, Form CSREES-2004, in accordance with instructions provided with the application forms. A budget form is required for each year of requested support. In addition, a cumulative budget is required detailing the requested total support for the overall project period. The budget form may be reproduced as needed by applicants. Funds may be requested under any of the categories listed on the form, provided that the item or service for which support is requested is allowable under the authorizing legislation, the applicable statutes, regulations, and Federal cost principles, and these program guidelines, and can be justified as necessary for the successful conduct of the proposed project. Applicants also must include a budget narrative to justify their budget requests (see section (b) below).

(b) Budget Narrative

All budget categories, with the exception of Indirect Costs, for which support is requested must be individually listed (with costs) in the same order as the budget and justified on a separate sheet of paper and placed immediately behind the Budget form.

12. Current and Pending Support (Form CSREES-2005)

All applications must contain Form CSREES-2005 listing other current public or private support (including in-house support) to which personnel (i.e., individuals submitting a vitae in response to item 8.(b) of this part) identified in the application have committed portions of their time, whether or not salary support for person(s) involved is included in the budget. Please follow the instructions provided on this form. Concurrent submission of identical or similar applications to other possible sponsors will not prejudice application review or evaluation by OEPNU. However, an application that duplicates or overlaps substantially with an application already reviewed and funded (or to be funded) by another organization or agency will not be funded under this program. Please note that the project being proposed should be included in the Pending section of the form.

13. Certifications

Note that by signing Form CSREES-2002 the applicant is providing the certifications required by 7 CFR Part 3017, regarding Debarment and Suspension and Drug-Free Workplace, and 7 CFR Part 3018, regarding Lobbying. The certification forms are included in the application package for informational purposes only. These forms should not be submitted with the application since by signing Form CSREES-2002 your organization is providing the required certifications. If the project will involve a subcontractor or consultant, the subcontractor/consultant should submit a Form AD-1048, Certification Regarding Debarment, Suspension, Ineligibility and Voluntary Exclusion—Lower Tier Covered Transactions, to the grantee organization for retention in their records. This form should not be submitted to USDA.

14. Compliance With the National Environmental Policy Act (NEPA) (Form CSREES-2006)

As outlined in 7 CFR Parts 1b and 3407 (the USDA and CSREES regulations implementing NEPA), the environmental data for any proposed project is to be provided to CSREES so that CSREES and OEPNU may determine whether any further action is needed. In some cases, however, the preparation of environmental data may not be required. Certain categories of actions are excluded from the requirements of NEPA.

In order for CSREES and OEPNU to determine whether any further action is needed with respect to NEPA, pertinent information regarding the possible environmental impacts of a particular project is necessary; therefore, Form CSREES-2006, “NEPA Exclusions Form,” must be included in the application indicating whether the applicant is of the opinion that the project falls within a categorical exclusion and the reasons therefore. If it is the applicant's opinion that the proposed project falls within the categorical exclusions, the specific exclusion(s) must be identified.

Even though a project may fall within the categorical exclusions, CSREES and OEPNU may determine that an Environmental Assessment or an Environmental Impact Statement is necessary for an activity, if substantial controversy on environmental grounds exists or if other extraordinary conditions or circumstances are present which may cause such activity to have a significant environmental effect.

C. Submission of Applications

1. When To Submit (Deadline Date)

Applications must be received by COB on August 14, 2003 (5 p.m. Eastern Time). Applications received after this deadline will not be considered for funding.

2. What To Submit

An original and ten (10) copies of the application must be submitted in one package.

3. Where To Submit

Applicants are strongly encouraged to submit completed applications via overnight mail or delivery service to ensure timely receipt by the USDA. The address for hand-delivered applications or applications submitted using an express mail or overnight courier service is: Biodiesel Fuel Education Program, c/o Proposal Services Unit, Cooperative State Research, Education, and Extension Service, U.S. Department of Agriculture, Room 1420, Waterfront Centre, 800 9th Street, SW., Washington, DC 20024, Telephone: (202) 401-5048.

Applications sent via the U.S. Postal Service must be sent to the following address: Biodiesel Fuel Education Program, c/o Proposal Services Unit, Cooperative State Research, Education, and Extension Service, U.S. Department of Agriculture, STOP 2245, 1400 Independence Avenue, SW., Washington, DC 20250-2245.

D. Acknowledgment of Applications

The receipt of all applications will be acknowledged by E-mail. Therefore, applicants are strongly encouraged to provide accurate E-mail addresses, where designated, on the Form CSREES-2002. If the applicant's E-mail address is not indicated, CSREES will acknowledge receipt of the application by letter.

Applicants who do not receive an acknowledgment within 60 days of the submission deadline should contact the program contact. Once the application has been assigned a proposal number, that number should be cited on all future correspondence.

Part IV. Review Process

A. General

Reviewers will include government and non-government personnel. All reviewers will be selected based upon training and experience in relevant scientific, extension, or education fields, taking into account the following factors: (a) The level of relevant formal scientific, technical education, or extension experience of the individual, as well as the extent to which an individual is engaged in relevant research, education, or extension activities; and (b) the need to include as reviewers experts from various areas of specialization within relevant scientific, education, or extension fields.

In addition, when selecting non-government reviewers, the following factors will be considered: (a) The need to include as reviewers other experts (e.g., producers, range or forest managers/operators, and consumers) who can assess relevance of the applications to targeted audiences and to program needs; (b) the need to include as reviewers experts from a variety of organizational types (e.g., colleges, universities, industry, state and Federal agencies, private profit and non-profit organizations) and geographic locations; (c) the need to maintain a balanced composition of reviewers with regard to minority and female representation and an equitable age distribution; and (d) the need to include reviewers who can judge the effective usefulness to producers and the general public of each application.

CSREES will compile application reviews by the individual reviewers and recommend awards to OEPNU. OEPNU will make final award decisions.

B. Evaluation Criteria

The evaluation criteria below will be used in reviewing applications submitted in response to this RFA:

1. Relevance of proposed project to current and future issues related to the production, use, distribution, fuel quality, and fuel properties of biodiesel, including:

(a) Demonstrated knowledge about markets, state initiatives, impacts on local economies, regulatory issues, standards, and technical issues;

(b) Demonstrated knowledge about issues associated with developing a biodiesel infrastructure; and

(c) Quality and extent of stakeholder involvement in planning and accomplishment of program objectives.

2. Reasonableness of project proposal, including:

(a) Sufficiency of scope and strategies to provide a consistent message in keeping with existing standards and regulations;

(b) Adequacy of Project Description (see Part III, B. 5.) , suitability and feasibility of methodology to develop and implement program;

(c) Clarity of objectives, milestones, and indicators of progress;

(d) Adequacy of plans for reporting, assessing and monitoring results over project's duration; and

(e) Demonstration of feasibility, and probability of success.

1. Technical quality of proposed project, including:

(a) Suitability and qualifications of key project personnel;

(b) Institutional experience and competence in providing alternative fuel education, including:

(1) Demonstrated knowledge about programs involved in alternative fuel research and education;

(2) Demonstrated knowledge about other fuels, fuel additives, engine performance, fuel quality and fuel emissions;

(3) Demonstrated knowledge about Federal, State and local programs aimed at encouraging alternative fuel use;

(4) Demonstrated ability in providing educational programs and developing technical programs; and

(5) Demonstrated ability to analyze technical information relevant to the biodiesel industry.

(a) Adequacy of available or obtainable resources; and

(b) Quality of plans to administer and maintain the project, including collaborative efforts, evaluation and monitoring efforts.

C. Conflicts of Interest and Confidentiality

During the peer evaluation process, extreme care will be taken to prevent any actual or perceived conflicts of interest that may impact review or evaluation. For the purpose of determining conflicts of interest, the academic and administrative autonomy of an institution shall be determined by reference to the current version of the Higher Education Directory, published by Higher Education Publications, Inc., 6400 Arlington Boulevard, Suite 648, Falls Church, VA 22042. Phone: (703) 532-2300. Web site: http://www.hepinc.com.

Names of submitting institutions and individuals, as well as application content and peer evaluations, will be kept confidential, except to those involved in the review process, to the extent permitted by law. In addition, the identities of peer reviewers will remain confidential throughout the entire review process. Therefore, the names of the reviewers will not be released to applicants. At the end of the fiscal year, names of reviewers will be made available in such a way that the reviewers cannot be identified with the review of any particular application.

Part V. Award Administration

A. General

Awards made pursuant to this RFA will be made in accordance with the final rule published for the Biodiesel Fuel Education Program, including any changes that may be made to the Proposed Rule published elsewhere in this issue of the Federal Register as necessary to address public comments submitted in response to the Proposed Rule.

Within the limit of funds available for such purpose, the Authorized Departmental Officer (ADO) shall make grants to those responsible, eligible applicants whose applications are judged most meritorious under the procedures set forth in this RFA. The date specified by the ADO as the effective date of the grant shall be no later than September 30 of the Federal fiscal year in which the project is approved for support and funds are appropriated for such purpose, unless otherwise permitted by law. It should be noted that the project need not be initiated on the grant effective date, but as soon thereafter as practical so that project goals may be attained within the funded project period. All funds granted by OEPNU under this RFA shall be expended solely for the purpose for which the funds are granted in accordance with the approved application and budget, the regulations, the terms and conditions of the award, the applicable Federal cost principles, and the Department's assistance regulations (Parts 3015 and 3019 of 7 CFR).

B. Organizational Management Information

Specific management information relating to an applicant shall be submitted on a one-time basis as part of the responsibility determination prior to the award of a grant identified under this RFA, if such information has not been provided previously under a CSREES program. CSREES will provide copies of forms recommended for use in fulfilling these requirements as part of the preaward process. Although an applicant may be eligible based on its status as one of these entities, there are factors which may exclude an applicant from receiving Federal financial and nonfinancial assistance and benefits under this program (e.g., debarment or suspension of an individual involved or a determination that an applicant is not responsible based on submitted organizational management information).

C. Award Document and Notice of Award

The award document will provide pertinent instructions and information including, at a minimum, the following:

1. Legal name and address of performing organization or institution to whom OEPNU has issued an award under the terms of this request for applications;

2. Title of project;

3. Name(s) and institution(s) of PDs chosen to direct and control approved activities;

4. Identifying award number assigned by the Department;

5. Project period, specifying the amount of time the Department intends to support the project without requiring recompetition for funds;

6. Total amount of Departmental financial assistance approved by OEPNU during the project period;

7. Legal authority(ies) under which the award is issued;

8. Appropriate Catalog of Federal Domestic Assistance (CFDA) number;

9. Approved budget plan for categorizing allocable project funds to accomplish the stated purpose of the award; and

10. Other information or provisions deemed necessary by OEPNU and CSREES to carry out the awarding activities or to accomplish the purpose of a particular award.

Part VI. Additional Information

A. Access To Review Information

Copies of reviews, not including the identity of reviewers, and a summary of the comments will be sent to the applicant PD after the review process has been completed.

B. Use of Funds; Changes

1. Delegation of Fiscal Responsibility

Unless the terms and conditions of the award state otherwise, the awardee may not in whole or in part delegate or transfer to another person, institution, or organization the responsibility for use or expenditure of award funds.

2. Changes in Project Plans

(a) The permissible changes by the awardee, PD(s), or other key project personnel in the approved project shall be limited to changes in methodology, techniques, or other similar aspects of the project to expedite achievement of the project's approved goals. If the awardee or the PD(s) is uncertain as to whether a change complies with this provision, the question must be referred to the Authorized Departmental Officer (ADO) for a final determination. The ADO is the signatory of the award document, not the program contact.

(b) Changes in approved goals or objectives shall be requested by the awardee and approved in writing by the ADO prior to effecting such changes. In no event shall requests for such changes be approved which are outside the scope of the original approved project.

(c) Changes in approved project leadership or the replacement or reassignment of other key project personnel shall be requested by the awardee and approved in writing by the ADO prior to effecting such changes.

(d) Transfers of actual performance of the substantive programmatic work in whole or in part and provisions for payment of funds, whether or not Federal funds are involved, shall be requested by the awardee and approved in writing by the ADO prior to effecting such transfers, unless prescribed otherwise in the terms and conditions of the award.

(e) Changes in Project Period: The project period may be extended by OEPNU without additional financial support, for such additional period(s) as the ADO determines may be necessary to complete or fulfill the purposes of an approved project, but in no case shall the total project period exceed five years. Any extension of time shall be conditioned upon prior request by the awardee and approval in writing by the ADO, unless prescribed otherwise in the terms and conditions of award.

(f) Changes in Approved Budget: Changes in an approved budget must be requested by the awardee and approved in writing by the ADO prior to instituting such changes if the revision will involve transfers or expenditures of amounts requiring prior approval as set forth in the applicable Federal cost principles, Departmental regulations, or award.

C. Expected Program Outputs and Reporting Requirements

1. Quarterly Progress Reports

Quarterly Progress Reports must be submitted to the USDA program contact person throughout the life of the grant. Generally, the Quarterly Progress Reports should include a summary of overall progress toward project objectives, a description of current problems or unusual developments, plans for the next quarter's activities, and any other information that is pertinent to the ongoing project or which may be specified in the terms and conditions of the award.

2. Current Research Information System (CRIS) Reports

Grant recipients are required to submit annual and summary evaluation reports via the CSREES Current Research Information System (CRIS). CRIS is an electronic, Web-based inventory system that facilitates both grantee submissions of project outcomes and public access to information on Federally funded projects.

D. Applicable Federal Statutes and Regulations

Several Federal statutes and regulations apply to grant applications considered for review and to project grants awarded under this program. These include, but are not limited to:

7 CFR Part 1, subpart A—USDA implementation of the Freedom of Information Act.

7 CFR Part 3—USDA implementation of OMB Circular No. A-129 regarding debt collection.

7 CFR Part 15, subpart A—USDA implementation of Title VI of the Civil Rights Act of 1964, as amended.

7 CFR Part 3015—USDA Uniform Federal Assistance Regulations, implementing OMB directives (i.e., OMB Circular Nos. A-21 and A-122) and incorporating provisions of 31 U.S.C. 6301-6308 (formerly the Federal Grant and Cooperative Agreement Act of 1977, Public Law 95-224), as well as general policy requirements applicable to recipients of Departmental financial assistance.

7 CFR Part 3017—USDA implementation of Governmentwide Debarment and Suspension (Nonprocurement) and Governmentwide Requirements for Drug-Free Workplace (Grants).

7 CFR Part 3018—USDA implementation of Restrictions on Lobbying. Imposes prohibitions and requirements for disclosure and certification related to lobbying on recipients of Federal contracts, grants, cooperative agreements, and loans.

7 CFR Part 3019—USDA implementation of OMB Circular A-110, Uniform Administrative Requirements for Grants and Other Agreements With Institutions of Higher Education, Hospitals, and Other Nonprofit Organizations.

7 CFR Part 3052—USDA implementation of OMB Circular No. A-133, Audits of States, Local Governments, and Non-profit Organizations.

7 CFR Part 3407—CSREES procedures to implement the National Environmental Policy Act of 1969, as amended.

29 U.S.C. 794 (sec. 504, Rehabilitation Act of 1973) and 7 CFR Part 15b (USDA implementation of statute)— prohibiting discrimination based upon physical or mental handicap in Federally assisted programs.

35 U.S.C. 200 et seq.—Bayh-Dole Act, controlling allocation of rights to inventions made by employees of small business firms and domestic nonprofit organizations, including universities, in Federally assisted programs (implementing regulations are contained in 37 CFR Part 401).

E. Confidential Aspects of Applications and Awards

When an application results in an award, it becomes a part of the record of USDA transactions, available to the public upon specific request. Information that the Secretary determines to be of a confidential, privileged, or proprietary nature will be held in confidence to the extent permitted by law. Therefore, any information that the applicant wishes to have considered as confidential, privileged, or proprietary should be clearly marked within the application. The original copy of an application that does not result in an award will be retained by the Agency for a period of one year. Other copies will be destroyed. Such an application will be released only with the consent of the applicant or to the extent required by law. An application may be withdrawn at any time prior to the final action thereon.

F. Regulatory Information

For the reasons set forth in the final Rule-related Notice to 7 CFR Part 3015, subpart V (48 FR 29114, June 24, 1983), this program is excluded from the scope of the Executive Order 12372 which requires intergovernmental consultation with State and local officials. This program does not directly affect State and local governments. Under the provisions of the Paperwork Reduction Act of 1995 (44 U.S.C. chapter 35), the collection of information requirements contained in this Notice have been approved under OMB Document No. 0524-0039.

G. Definitions

For the purpose of this program, the following definitions are applicable:

Administrator means the Administrator of the Cooperative State Research, Education, and Extension Service (CSREES) and any other officer or employee of the Department to whom the authority involved may be delegated.

Authorized departmental officer or ADO means the Secretary or any employee of the Department who has the authority to issue or modify grant instruments on behalf of the Secretary.

Authorized organizational representative or AOR means the president or chief executive officer of the applicant organization or the official, designated by the president or chief executive officer of the applicant organization, who has the authority to commit the resources of the organization.

Biodiesel means a monoalkyl ester that meets the requirements of an appropriate American Society for Testing and Materials Standard.

Budget period means the interval of time (usually 12 months) into which the project period is divided for budgetary and reporting purposes.

Department or USDA means the United States Department of Agriculture.

Education activity means an act or process that imparts knowledge or skills through formal or informal training and outreach.

Grant means the award by the Secretary of funds to an eligible recipient for the purpose of conducting the identified project.

Grantee means the organization designated in the award document as the responsible legal entity to which a grant is awarded.

Institution of higher education, as defined in sec. 101 of the Higher Education Act of 1965 (20 U.S.C. 1001), means an educational institution in any State that: (1) Admits as regular students only persons having a certificate of graduation from a school providing secondary education, or the recognized equivalent of such a certificate; (2) is legally authorized within such State to provide a program of education beyond secondary education; (3) provides an educational program for which the institution awards a bachelor's degree or provides not less than a two-year program that is acceptable for full credit toward such a degree; (4) is a public or other nonprofit institution; and (5) is accredited by a nationally recognized accrediting agency or association, or if not so accredited, is an institution that has been granted preaccreditation status by such an agency or association that has been recognized by the Secretary of Education for the granting of preaccreditation status, and the Secretary of Education has determined that there is satisfactory assurance that the institution will meet the accreditation standards of such an agency or association within a reasonable time.

OEPNU means the Office of Energy Policy and New Uses.

Peer review is an evaluation of a proposed project performed by experts with the scientific knowledge and technical skills to conduct the proposed work whereby the technical quality and relevance to the program are assessed.

Project director or PD means the single individual designated by the grantee in the grant application and approved by the Secretary who is responsible for the direction and management of the project, also known as a principal investigator for research activities.

Prior approval means written approval evidencing prior consent by an authorized departmental officer (as defined above).

Program means the Biodiesel Fuel Education Program.

Project means the particular activity within the scope of the program supported by a grant award.

Project period means the period, as stated in the award document and modifications thereto, if any, during which Federal sponsorship begins and ends.

Secretary means the Secretary of Agriculture and any other officer or employee of the Department to whom the authority involved may be delegated.

Done at Washington, DC, this 9th day of July 2003.
Roger Conway,
Director, Office of Energy Policy and New Uses.

[FR Doc. 03-17852 Filed 7-14-03; 8:45 am]

BILLING CODE 3410-22-P